DEPARTMENT OF THE INTERIOR

Fish and Wildlife Service

Draft Recovery Plan for Hackelia venusta (Showy Stickseed)

AGENCY: Fish and Wildlife Service, Interior.

ACTION: Notice of document availability for review and comment.

SUMMARY: The U.S. Fish and Wildlife Service (“we”), announce the availability of the Draft Recovery Plan for Hackelia venusta (Showy Stickseed), for public review and comment.

DATES: Comments on the draft recovery plan must be received on or before May 12, 2006.

ADDRESSES: Copies of the draft recovery plan are available for inspection, by appointment, during normal business hours at the following location: U.S. Fish and Wildlife Service, Central Washington Field Office, 215 Melody Lane, Wenatchee, Washington 98801 (telephone: 509-665-3508). Requests for copies of the draft recovery plan and written comments and materials regarding this plan should be addressed to the Field Supervisor, Ecological Services, at the above Wenatchee address. An electronic copy of the draft recovery plan is also available online at http://endangered.fws.gov/recovery/index.html#plans.

FOR FURTHER INFORMATION CONTACT: Tim McCracken, Fish and Wildlife Biologist, at the above Wenatchee address.

SUPPLEMENTARY INFORMATION:

Background

Restoring endangered or threatened animals and plants to the point where they are again secure, self-sustaining members of their ecosystems is a primary goal of the Endangered Species Act (ESA) and our endangered species program. The ESA (16 U.S.C. 1533 (f)) requires the development of recovery plans for listed species unless such a plan would not promote the conservation of a particular species. Recovery plans help guide the recovery effort by describing actions considered necessary for the conservation of the species, establishing criteria for downlisting or delisting listed species, and estimating time and cost for implementing the measures needed for recovery (16 U.S.C. 1533 (f)).

Section 4(f) of the ESA also requires that public notice, and an opportunity for public review and comment, be provided during recovery plan development. We will consider all information presented during the public comment period in the development of each new or revised recovery plan. Comments received may result in changes to the draft recovery plan. Comments regarding recovery plan implementation may be forwarded to appropriate Federal or other entities so that they can take these comments into account during the course of implementing recovery actions. Individual responses to comments will not be provided.

Showy stickseed (Hackelia venusta) is a perennial plant with showy white or blue-tinged flowers in the forget-me-not plant family (Boraginaceae). The species is a narrow endemic, being known from only 1 population of roughly 600 individuals in Chelan County, Washington. It occurs primarily on Federal lands, but a very small portion of the population is on private lands. Within its limited range, Hackelia venusta is found in open areas of steeply sloping, highly unstable granitic sand and granite cliffs. The common feature to its habitat appears to be the relatively sparse cover of other vascular plants and low canopy cover.

Hackelia venusta was listed as an endangered species on February 6, 2002 (67 FR 5515). The major threats to Hackelia venusta include collection and physical disturbance to the plants and habitat by humans, mass wasting (landslides), nonnative noxious weeds, competition and shading from native trees and shrubs due to fire suppression, some highway maintenance activities, and low seedling establishment. The small population size and limited geographic extent of the species exacerbates all of these threats, and renders Hackelia venusta highly vulnerable to extirpation or extinction from either human-caused or random natural events.

Objectives of a recovery plan would be to reduce the threats to Hackelia venusta and increase population size and geographic distribution. The first step in the recovery strategy for the species would be to protect and stabilize the existing population. This would include management to maintain an open habitat, noxious weed control, minimizing the damage of collection and trampling within the population, seed collection and long-term seed banking to protect the genetic resources of the species, and the development and implementation of management plans. In addition, to reduce the potential for extinction due to loss of the single population, recovery actions will likely require establishing additional populations within the estimated historical range of the species.

Public Comments Solicited

We solicit written comments on the draft recovery plan described in this notice. All comments received by the date specified above will be considered in the development of this plan.

Authority

The authority for this action is section 4(f) of the Endangered Species Act, 16 U.S.C. 1533(f).

Dated: December 6, 2005.
David J. Wesley,
Acting Regional Director, Region 1, U.S. Fish and Wildlife Service.

[FR Doc. E6-3505 Filed 3-10-06; 8:45 am]

BILLING CODE 4310-55-P